EXPORT-IMPORT BANK

Notice for the Request of Applications: 2026-2027 EXIM Advisory Committees

Time and Date: Wednesday, November 19th-Friday, December 19th, 2025.

Status: The Export-Import Bank of the United States (EXIM) is accepting applications for the 2026-2027 EXIM Advisory Committee and Sub-Saharan Africa Advisory Committee from November 19-December 19, 2025.

Candidates wishing to be considered for membership must submit an application here https://www.exim.gov/leadership-governance/advisory-committees and include the following:

• Statement of interest showing relevant knowledge, experience, and qualifications (500 words max)

• Resume

• Brief professional biography

• High-resolution headshot

Completed application materials must be submitted by December 19, 2025.

Advisory Committee

The Advisory Committee provides guidance to EXIM on its policies and programs, in particular on the extent to which EXIM provides competitive financing to support American jobs through exports.

Sub-Saharan Africa Advisory Committee

The Sub-Saharan Africa Advisory Committee provides advice on EXIM policies and programs designed to support the expansion of financing support for U.S. manufactured goods and services in Sub-Saharan Africa.

Contact Person for More Information: For more information about applying for membership to any of the committees, please contact India Walker at advisory@exim.gov.

Authority: The Committee was established by the Bank as directed by Section 2(b)(9) of the Export Import Bank Act of 1945. This Advisory Committee is chartered in accordance with the Federal Advisory Committee Act (“FACA”), 5 U.S.C. App.

India Walker,
Deputy Vice President, Office of External Affairs.

[FR Doc. 2025-20434 Filed 11-19-25; 8:45 am]

BILLING CODE 6690-01-P